ENVIRONMENTAL PROTECTION AGENCY

40 CFR Parts 60 and 61

[EPA-R09-OAR-2023-0512; FRL-11463-01-R9]

Update to the Addresses and Agency Names for Region IX and Air Quality Agencies: Arizona; California; Hawaii; Nevada.

AGENCY: Environmental Protection Agency (EPA).

ACTION: Final rule; technical amendment.

SUMMARY: The Environmental Protection Agency (EPA) is amending its regulations to update addresses and names of air quality agencies in EPA Region IX. This action is editorial in nature and is intended to provide accuracy and clarity to EPA's regulations.

DATES: This rule is effective December 12, 2023.

ADDRESSES: EPA Region IX, Air and Radiation Division, 75 Hawthorne Street, San Francisco, California, 94105.

FOR FURTHER INFORMATION CONTACT: Kira Wiesinger, EPA Region IX. By phone: (415) 972-3827 or by email at wiesinger.kira@epa.gov.

SUPPLEMENTARY INFORMATION: This rule makes editorial changes to various environmental regulations in title 40 of the Code of Federal Regulations (CFR) to update addresses and names for air quality agencies in EPA Region IX. It does not otherwise impose or amend any requirements. Pursuant to 5 U.S.C. 533 (b)(3)(B) of the Administrative Procedure Act (APA), the EPA has found that the public notice and comment provisions of the APA, found at 5 U.S.C. 553(b), do not apply to this rulemaking as public notice and comment is unnecessary because this amendment to the regulations provides only technical changes to update an address or name of air quality agencies. The EPA has also determined that there is good cause to waive the requirement of publication 30 days in advance of the rule's effective date pursuant to 5 U.S.C. 553(d)(3) in order for the public to have the correct addresses and names for air quality agencies in EPA Region IX. As this action updates the CFR and does not otherwise impose or amend any requirements, the EPA has determined it does not trigger any requirements of the statutes and Executive Orders that govern rulemaking procedures. This action is subject to the Congressional Review Act, and the EPA will submit a rule report to each House of the Congress and to the Comptroller General of the United States. This action is not a “major rule” as defined by 5 U.S.C. 804(2).

List of Subjects

40 CFR Parts 60 and 61

Administrative practice and procedure, Reporting and recordkeeping requirements.

Dated: December 5, 2023.
Martha Guzman Aceves,
Regional Administrator, Region IX.

For the reasons stated in the preamble, the Environmental Protection Agency amends title 40 of the Code of Federal Regulations as follows:

PART 60—STANDARDS OF PERFORMANCE FOR NEW STATIONARY SOURCES

1. The authority citation for part 60 continues to read as follows:

Authority: 42 U.S.C. 7401 et seq.

Subpart A—General Provisions

§ 60.4 [Amended]

2. In § 60.4, revise the entry for “Region IX” in paragraph (a) and revise paragraphs (b)(4), (6), (13), and (30) to read as follows:

§ 60.4 Address.

(a) * * *

Region IX (Arizona, California, Hawaii and Nevada; the territories of American Samoa and Guam; the Commonwealth of the Northern Mariana Islands; the territories of Baker Island, Howland Island, Jarvis Island, Johnston Atoll, Kingman Reef, Midway Atoll, Palmyra Atoll, and Wake Islands; and certain U.S. Government activities in the freely associated states of the Republic of the Marshall Islands, the Federated States of Micronesia, and the Republic of Palau): Director, Enforcement and Compliance Assurance Division (ENF 2-1), U.S. Environmental Protection Agency Region IX, 75 Hawthorne Street, San Francisco, CA 94105.

* * * * *

(b) * * *

(4) Arizona:

Arizona Department of Environmental Quality, Suite #160, 1110 West Washington Street, Phoenix, AZ 85007.

Maricopa County Air Quality Department, 301 West Jefferson Street, Phoenix, AZ 85003.

Pima County Department of Environmental Quality, 33 North Stone Avenue, Suite 700, Tucson, AZ 85701.

Pinal County Air Quality Department, 31 North Pinal Street, Building F, Florence, AZ 85132.

Note 1 to paragraph (b)(4): For tables listing the delegation status of agencies in Region IX, see paragraph (d) of this section.

* * * * *

(6) California:

Amador Air District, 810 Court Street, Jackson, CA 95642.

Antelope Valley Air Quality Management District, 2551 W Avenue H, Lancaster, CA 93536.

Bay Area Air Quality Management District, 375 Beale Street, Suite 600, San Francisco, CA 94105.

Butte County Air Quality Management District, 629 Entler Avenue, Suite 15, Chico, CA 95928.

Calaveras County Air Pollution Control District, 891 Mountain Ranch Road, Building E, San Andreas, CA 95249.

Colusa County Air Pollution Control District, 100 Sunrise Blvd., Suite A, Colusa, CA 95932-3246.

El Dorado County Air Quality Management District, 330 Fair Lane, Placerville, CA 95667-4100.

Eastern Kern Air Pollution Control District, 2700 “M” Street, Suite 302, Bakersfield, CA 93301-2370.

Feather River Air Quality Management District, 541 Washington Avenue, Yuba City, CA 95991.

Glenn County Air Pollution Control District, 720 N Colusa Street, P.O. Box 351, Willows, CA 95988-0351.

Great Basin Unified Air Pollution Control District, 157 Short Street, Bishop, CA 93514-3537.

Imperial County Air Pollution Control District, 150 South Ninth Street, El Centro, CA 92243-2839.

Lake County Air Quality Management District, 2617 S Main St., Lakeport, CA 95453-5405.

Lassen County Air Pollution Control District, 720 South St., Susanville, CA 96130.

Mariposa County Air Pollution Control District, P.O. Box 5, Mariposa, CA 95338.

Mendocino County Air Quality Management District, 306 E Gobbi Street, Ukiah, CA 95482-5511.

Modoc County Air Pollution Control District, 202 W 4th Street, Alturas, CA 96101.

Mojave Desert Air Quality Management District, 14306 Park Avenue, Victorville, CA 92392-2310.

Monterey Bay Air Resources District, 24580 Silver Cloud Court, Monterey, CA 93940.

North Coast Unified Air Quality Management District, 707 L Street, Eureka, CA 95501-3327.

Northern Sierra Air Quality Management District, 200 Litton Drive, Suite 320, Grass Valley, CA 95945-2509.

Northern Sonoma County Air Pollution Control District, 150 Matheson Street, Healdsburg, CA 95448-4908.

Placer County Air Pollution Control District, 110 Maple Street, Auburn, CA 95603.

Sacramento Metropolitan Air Quality Management District, 777 12th Street, Suite 300, Sacramento, CA 95814-1908.

San Diego County Air Pollution Control District, 10124 Old Grove Road, San Diego, CA 92131-1649.

San Joaquin Valley Air Pollution Control District, 1990 E Gettysburg, Fresno, CA 93726.

San Luis Obispo County Air Pollution Control District, 3433 Roberto Court, San Luis Obispo, CA 93401-7126.

Santa Barbara County Air Pollution Control District, 260 North San Antonio Road, Suite A, Santa Barbara, CA 93110-1315.

Shasta County Air Quality Management District, 1855 Placer Street, Suite 101, Redding, CA 96001-1759.

Siskiyou County Air Pollution Control District, 525 So. Foothill Drive, Yreka, CA 96097-3036.

South Coast Air Quality Management District, 21865 Copley Drive, Diamond Bar, CA 91765-4182.

Tehama County Air Pollution Control District, P.O. Box 1169 (1834 Walnut Street), Red Bluff, CA 96080-0038.

Tuolumne County Air Pollution Control District, 2 South Green St., Sonora, CA 95370-4618.

Ventura County Air Pollution Control District, 4567 Telephone Road, 2nd Floor, Ventura, CA 93003-5417.

Yolo-Solano Air Quality Management District, 1947 Galileo Court, Suite 103, Davis, CA 95618.

Note 2 to paragraph (b)(6): For tables listing the delegation status of agencies in Region IX, see paragraph (d) of this section.

* * * * *

(13) Hawaii:

Clean Air Branch, Hawaii Department of Health, 2827 Waimano Home Road, #130 Pearl City, HI 96782.

Note 4 to paragraph (b)(13): For tables listing the delegation status of agencies in Region IX, see paragraph (d) of this section.

* * * * *

(30) Nevada:

Nevada Division of Environmental Protection, 901 South Stewart Street, Suite 4001, Carson City, NV 89701-5249.

Clark County Division of Air Quality, 500 S Grand Central Parkway, 1st Floor, P.O. Box 555210, Las Vegas, NV 89155-5210.

Northern Nevada Public Health, Air Quality Management Division, 1001 E 9th Street, Building B, Reno, NV 89512.

Note 7 to paragraph (b)(30): For tables listing the delegation status of agencies in Region IX, see paragraph (d) of this section.

* * * * *

PART 61—NATIONAL EMISSION STANDARDS FOR HAZARDOUS AIR POLLUTANTS

3. The authority citation for part 61 continues to read as follows:

Authority: 42 U.S.C. 7401 et seq.

Subpart A—General Provisions

§ 61.04 [Amended]

4. In § 61.04, revise the entry for “Region IX” in paragraph (a) and revise paragraphs (b)(4), (6), (13), and (30) to read as follows:

§ 61.04 Address.

(a) * * *

Region IX (Arizona, California, Hawaii and Nevada; the territories of American Samoa and Guam; the Commonwealth of the Northern Mariana Islands; the territories of Baker Island, Howland Island, Jarvis Island, Johnston Atoll, Kingman Reef, Midway Atoll, Palmyra Atoll, and Wake Islands; and certain U.S. Government activities in the freely associated states of the Republic of the Marshall Islands, the Federated States of Micronesia, and the Republic of Palau): Director, Enforcement and Compliance Assurance Division (ENF 2-1), U.S. Environmental Protection Agency Region IX, 75 Hawthorne Street, San Francisco, CA 94105.

* * * * *

(b) * * *

(4) Arizona:

Arizona Department of Environmental Quality, Suite #160, 1110 West Washington Street, Phoenix, AZ 85007.

Maricopa County Air Quality Department, 301 West Jefferson Street, Phoenix, AZ 85003.

Pima County Department of Environmental Quality, 33 North Stone Avenue, Suite 700, Tucson, AZ 85701.

Pinal County Air Quality Department, 31 North Pinal Street, Building F, Florence, AZ 85132.

Note 1 to paragraph (b)(4): For tables listing the delegation status of agencies in Region IX, see paragraph (c)(9) of this section.

* * * * *

(6) California:

Amador Air District, 810 Court Street, Jackson, CA 95642.

Antelope Valley Air Quality Management District, 2551 W Avenue H, Lancaster, CA 93536.

Bay Area Air Quality Management District, 375 Beale Street, Suite 600, San Francisco, CA 94105.

Butte County Air Quality Management District, 629 Entler Avenue, Suite 15, Chico, CA 95928.

Calaveras County Air Pollution Control District, 891 Mountain Ranch Road, Building E, San Andreas, CA 95249.

Colusa County Air Pollution Control District, 100 Sunrise Blvd., Suite A, Colusa, CA 95932-3246.

El Dorado County Air Quality Management District, 330 Fair Lane, Placerville, CA 95667-4100.

Eastern Kern Air Pollution Control District, 2700 “M” Street, Suite 302, Bakersfield, CA 93301-2370.

Feather River Air Quality Management District, 541 Washington Avenue, Yuba City, CA 95991.

Glenn County Air Pollution Control District, 720 N Colusa Street, P.O. Box 351, Willows, CA 95988-0351.

Great Basin Unified Air Pollution Control District, 157 Short Street, Bishop, CA 93514-3537.

Imperial County Air Pollution Control District, 150 South Ninth Street, El Centro, CA 92243- 2839.

Lake County Air Quality Management District, 2617 S Main St., Lakeport, CA 95453-5405.

Lassen County Air Pollution Control District, 720 South St., Susanville, CA 96130.

Mariposa County Air Pollution Control District, P.O. Box 5, Mariposa, CA 95338.

Mendocino County Air Quality Management District, 306 E Gobbi Street, Ukiah, CA 95482-5511.

Modoc County Air Pollution Control District, 202 W 4th Street, Alturas, CA 96101.

Mojave Desert Air Quality Management District, 14306 Park Avenue, Victorville, CA 92392-2310.

Monterey Bay Air Resources District, 24580 Silver Cloud Court, Monterey, CA 93940.

North Coast Unified Air Quality Management District, 707 L Street, Eureka, CA 95501-3327.

Northern Sierra Air Quality Management District, 200 Litton Drive, Suite 320, Grass Valley, CA 95945-2509.

Northern Sonoma County Air Pollution Control District, 150 Matheson Street, Healdsburg, CA 95448-4908.

Placer County Air Pollution Control District, 110 Maple Street, Auburn, CA 95603.

Sacramento Metropolitan Air Quality Management District, 777 12th Street, Suite 300, Sacramento, CA 95814-1908.

San Diego County Air Pollution Control District, 10124 Old Grove Road, San Diego, CA 92131-1649.

San Joaquin Valley Air Pollution Control District, 1990 E Gettysburg, Fresno, CA 93726.

San Luis Obispo County Air Pollution Control District, 3433 Roberto Court, San Luis Obispo, CA 93401-7126.

Santa Barbara County Air Pollution Control District, 260 North San Antonio Road, Suite A, Santa Barbara, CA 93110-1315.

Shasta County Air Quality Management District, 1855 Placer Street, Suite 101, Redding, CA 96001-1759.

Siskiyou County Air Pollution Control District, 525 So. Foothill Drive, Yreka, CA 96097-3036.

South Coast Air Quality Management District, 21865 Copley Drive, Diamond Bar, CA 91765-4182.

Tehama County Air Pollution Control District, P.O. Box 1169 (1834 Walnut Street), Red Bluff, CA 96080-0038.

Tuolumne County Air Pollution Control District, 2 South Green St., Sonora, CA 95370-4618.

Ventura County Air Pollution Control District, 4567 Telephone Road, 2nd Floor, Ventura, CA 93003-5417.

Yolo-Solano Air Quality Management District, 1947 Galileo Court, Suite 103, Davis, CA 95618.

Note 2 to paragraph (b)(6): For tables listing the delegation status of agencies in Region IX, see paragraph (c)(9) of this section.

* * * * *

(13) Hawaii:

Clean Air Branch, Hawaii Department of Health, 2827 Waimano Home Road, #130 Pearl City, HI 96782.

Note 4 to paragraph (b)(13): For tables listing the delegation status of agencies in Region IX, see paragraph (c)(9) of this section.

* * * * *

(30) Nevada:

Nevada Division of Environmental Protection, 901 South Stewart Street, Suite 4001, Carson City, NV 89701-5249.

Clark County Division of Air Quality, 500 S Grand Central Parkway, 1st Floor, P.O. Box 555210, Las Vegas, NV 89155-5210.

Northern Nevada Public Health, Air Quality Management Division, 1001 E 9th Street, Building B, Reno, NV 89512.

Note 6 to paragraph (b)(30): For tables listing the delegation status of agencies in Region IX, see paragraph (c)(9) of this section.

* * * * *

[FR Doc. 2023-27141 Filed 12-11-23; 8:45 am]

BILLING CODE 6560-50-P